ENVIRONMENTAL PROTECTION AGENCY

[FRL-9973-53-OARM]

National Advisory Council for Environmental Policy and Technology

AGENCY: Environmental Protection Agency (EPA).

ACTION: Notice of Federal Advisory Committee Teleconference.

SUMMARY: Under the Federal Advisory Committee Act, EPA gives notice of a public meeting of the National Advisory Council for Environmental Policy and Technology (NACEPT). NACEPT provides advice to the EPA Administrator on a broad range of environmental policy, technology, and management issues. NACEPT members represent academia, business/industry, non-governmental organizations, and state, local and tribal governments. The purpose of this meeting is for NACEPT to discuss the draft second report recommendations addressing how to best integrate citizen science work at EPA through effective collaboration and partnerships.

A copy of the meeting agenda will be posted at http://www2.epa.gov/faca/nacept.

DATES: NACEPT will hold a public teleconference on February 28, 2018, from 12 p.m. to 4 p.m. (EST).

ADDRESSES: The teleconference will be held at the EPA Headquarters, William Jefferson Clinton Federal Building East, Room 1132, 1201 Constitution Avenue NW, Washington, DC 20004.

FOR FURTHER INFORMATION CONTACT: Eugene Green, Designated Federal Officer, green.eugene@epa.gov, (202) 564-2432, U.S. EPA, Office of Resources, Operations and Management; Federal Advisory Committee Management Division (MC1601M), 1200 Pennsylvania Avenue NW, Washington, DC 20460.

SUPPLEMENTARY INFORMATION: Requests to make oral comments or to provide written comments to NACEPT should be sent to Eugene Green at green.eugene@epa.gov by February 21st. The teleconference is open to the public, with limited lines available on a first-come, first-served basis. Members of the public wishing to participate in the teleconference should contact Eugene Green via email or by calling (202) 564-2432 no later than February 21st.

Meeting Access: Information regarding accessibility and/or accommodations for individuals with disabilities should be directed to Eugene Green at the email address or phone number listed above. To ensure adequate time for processing, please make requests for accommodations at least 10 days prior to the teleconference meeting.

Dated: January 23, 2018.
Eugene Green,
Designated Federal Officer.

[FR Doc. 2018-02335 Filed 2-5-18; 8:45 am]

BILLING CODE 6560-50-P